DEPARTMENT OF HOMELAND SECURITY

Coast Guard

[USCG 2002-13191]

Review of Great Lakes Pilotage Bridge-Hour Standards for American Pilots on the Great Lakes

AGENCY: Coast Guard, DHS.

ACTION: Notice of availability and request for comments.

SUMMARY: The Coast Guard announces the availability of, and seeks public comments on, the Review of Bridge-Hour Standards for American pilots on the Great Lakes dated March 4, 2003. The Review asks, as it states, “how much pilotage work needs to be done, and how many pilots we need to do the work.” In particular, it arrives at establishing the number of pilots we need to do that work “safely, reliably, and efficiently (italics in original).”

DATES: Comments and related material must reach the Docket Management Facility on or before July 14, 2003.

ADDRESSES: Please identify your comments and related material by the docket number of this notice (USCG 2002-13191). Then, to make sure they enter the docket just once, submit them by just one of the following means:

(1) By mail to the Docket Management Facility, U.S. Department of Transportation, room PL-401, 400 Seventh Street, SW., Washington DC 20590-0001.

(2) By delivery to room PL-401 on the Plaza level of the Nassif Building, 400 Seventh Street, SW., Washington, DC, between 9 a.m. and 5 p.m., Monday through Friday, except Federal holidays. The telephone number is 202-366-9329.

(3) By fax to the Docket Management Facility at 202-493-2251.

(4) Electronically through the Web site for the Docket Management System at http://dms.dot.gov.

The Facility maintains the public docket for this notice. Comments and related material received from the public, as well as documents mentioned in this notice, will become part of this docket and will be available for inspection or copying at room PL-401 on the Plaza level of the Nassif Building, 400 Seventh Street, SW., Washington, DC, between 9 a.m. and 5 p.m. Monday through Friday, except Federal holidays.

The Review is available on the Internet at http://dms.dot.gov. It is also available from Mr. Tom Lawler, Chief Economist, Great Lakes Pilotage, Commandant (G-MW-1), U.S. Coast Guard Headquarters, telephone 202-267-1241.

FOR FURTHER INFORMATION CONTACT: For questions on this Notice or on the Review of Bridge-Hour Standards for American pilots on the Great Lakes, write or call Mr. Tom Lawler where indicated under ADDRESSES. For questions on viewing or submitting material to the docket, call Ms. Dorothy Beard, Chief, Dockets, Department of Transportation, telephone 202-366-9329.

SUPPLEMENTARY INFORMATION:

What Action Is the Coast Guard Taking?

The current Bridge-Hour Standards for American pilots on the Great Lakes appear at 46 Code of Federal Regulations (CFR) part 404, Appendix A. These standards help determine the number of pilots necessary to guide commercial vessels engaged in foreign trade through the American waters of the Great Lakes system in a safe, reliable, and efficient manner. Elaborate and rigid though they seem, they only constitute “guidance” to the Director, Great Lakes Pilotage. They are a component of the pilotage program's ratemaking process and, as such, are part of the equation used in determining the annual rate that owners and operators of vessels must pay for pilotage in each area of the Great Lakes. They also help determine the number of hours of work a pilot must perform to earn target compensation. Under them, a pilot in designated waters must work 1000 hours during the season to make target compensation while a pilot in undesignated waters must work 1800 hours to make target compensation.

At the requests of Representative James L. Oberstar and the St. Lawrence Seaway Pilots' Association, the Coast Guard chartered a study to determine whether the Bridge-Hour Standards are reasonable for each area of the Great Lakes and, if not, seeking recommendations for change. The study in the form of the Review now made available was completed on March 4, 2003. The Coast Guard has placed the Review in the Public Docket (USCG 2002-13191). It seeks public comments on the Review and on its recommendations.

Why Is the Coast Guard Taking This Action?

The Coast Guard is taking this action to obtain the benefit of public comment before determining which, if any, of the recommendations of the Review it will approve. It will incorporate any recommendations it does approve in a revision to the current rules on ratemaking, at a future date.

How May I Participate in This Action?

You may participate in this action by submitting comments and related material on the Review of Bridge-Hour Standards for American pilots on the Great Lakes. If you submit written comments please include—

• Your name and address;

• The docket number for this notice (USCG 2002-13191);

• The specific section of the Review to which each comment applies; and

• The reason for each comment.

You may mail, deliver, fax, or electronically submit your comments and related material to the Docket Management Facility, using an address or fax number listed in ADDRESSES. Please do not submit the same comment material more than once. If you mail or deliver your comments and material, they must be on 8½-by-11-inch paper, and the quality of the copy should be clear enough for copying and scanning. If you mail your comments and material and would like to know whether the Facility received them, please enclose a stamped, self-addressed postcard or envelope. The Coast Guard will consider all comments and material received during the 60-day comment period.

Once we have considered all comments and related material, we may publish an NPRM amending the standards used to determine the number of American pilots needed to guide foreign-flag vessels through the Great Lakes system in a safe, reliable, and efficient manner.

Dated: May 2, 2003.
L.L. Hereth,
Rear Admiral, Coast Guard, Acting Assistant Commandant for Marine Safety, Security and Environmental Protection.

[FR Doc. 03-11984 Filed 5-13-03; 8:45 am]

BILLING CODE 4910-15-P